SMALL BUSINESS ADMINISTRATION

Champlain Capital Partners III, L.P.; License No. 09/09-0490; Notice Seeking Exemption Under Section 312 of the Small Business Investment Act, Conflicts of Interest

Notice is hereby given that Champlain Capital Partners III, L.P., One Post Street, Suite 925, San Francisco, CA 94104, a Federal Licensee under the Small Business Investment Act of 1958, as amended (“the Act”), in connection with the financing of a small concerns, has sought an exemption under Section 312 of the Act and Section 107.730, Financings which Constitute Conflicts of Interest of the Small Business Administration (“SBA”) Rules and Regulations (13 CFR 107.730). Champlain Capital Partners III, L.P. (“Champlain III”) is proposing to provide financing to Stewart-MacDonald Manufacturing Company (“StewMac”) to support the Company's growth.

The proposed transaction is brought within the purview of § 107.730 of the Regulations because Champlain Capital Partners II, L.P., an Associates of Champlain III by virtue of Common Control as defined at § 107.50, holds 30% of equity interest in StewMac. Champlain II expects to receive $19 million from the proposed transaction.

Therefore, the proposed transaction is considered self-deal pursuant to 13 CFR 107.730 and requires a regulatory exemption. Notice is hereby given that any interested person may submit written comments on the transaction within fifteen days of the date of this publication to Acting Associate Administrator for Investment, U.S. Small Business Administration, 409 Third Street SW, Washington, DC 20416.

Christopher L. Weaver,
Acting Associate Administrator, Office of Investment and Innovation.

[FR Doc. 2020-19882 Filed 9-8-20; 8:45 am]

BILLING CODE P